DEPARTMENT OF THE INTERIOR

National Park Service

Construction of New Utah Museum of Natural History, Draft Environmental Impact Statement, Salt Lake County, UT

AGENCY: National Park Service, Department of Interior.

ACTION: Notice of availability of the Draft Environmental Impact Statement for the construction and operation of a proposed new Utah Museum of Natural History at the University of Utah.

SUMMARY: Pursuant to the National Environmental Policy Act of 1969, 42 U.S.C. 4332(2)(C), the National Park Service and the University of Utah announce the availability of a Draft Environmental Impact Statement for the Construction and Operation of a Proposed New Utah Museum of Natural History at the University of Utah, Salt Lake County, Utah.

DATES: The University of Utah and the National Park Service will accept comments on the Draft Environmental Impact Statement from the public through September 19, 2006. A public meeting will be held at a time, data, and place to be announced. Public meeting information will be posted on the project Web site (see url below).

ADDRESSES: Information will be available for public review and comment online at http://www.umnh.utah.edu, (click on About UMNH, New Building Updates, Environmental Impact Statement), or at Bear West Company, 145 South 400 East, Salt Lake City, Utah 84111, phone 801-355-8816.

FOR FURTHER INFORMATION CONTACT: Ralph Becker, 145 South 400 East, Salt Lake City, Utah 84111, 801-355-8816, e-mail rbecker@bearwest.com.

SUPPLEMENTARY INFORMATION: If you wish to comment, you may submit your comments by any one of several methods. You may mail comments to UMNH EIS, c/o Bear West, 145 South 400 East, Salt Lake City, Utah 84111. You may also comment via e-mail to bcall@bearwest.com. If you do not receive a confirmation that your e-mail message was received, contact us directly by calling Bridger Call at 801-355-8816. Finally, you may hand-deliver comments to Bear West, 145 South 400 East, Salt Lake City, Utah 84111. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: July 13, 2006.
Michael D. Snyder,
Director, Intermountain Region, National Park Service.

[FR Doc. 06-6322 Filed 7-20-06; 8:45 am]

BILLING CODE 4310-70-M